DEPARTMENT OF HEALTH AND HUMAN SERVICES

Centers for Disease Control and Prevention

[30DAY-12-02]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project: Key Informant Interviews to Identify the Barriers to the Implementation of the New Targeted Testing and Treatment of Latent TB Infection Recommendations—NEW—Centers for Disease Control and Prevention (CDC), National Center for HIV, STD, and TB Prevention (NCSHTP). In April 2000, the Centers for Disease Control and Prevention (CDC) and the American Thoracic Society (ATS) issued new recommendations for targeted tuberculin testing and treatment regimens for persons with latent tuberculosis infection (LTBI.) CDC proposes to collect data to identify potential barriers to the acceptance, implementation, and adherence to targeted testing and treatment of LTBI guidelines.

The specific purpose of this research is:

A. Identify barriers to acceptance, implementation, and adherence to the new targeted testing and treatment of LTBI recommendations.

B. Identify possible education and communication messages, materials, and behavior change strategies to overcome those barriers.

C. Identify acceptable dissemination and media channels.

Approximately, one hundred key-informant telephone interviews with physicians who evaluate tuberculin skin test results and make treatment decisions for individuals with LTBI will be conducted. The target group will include physicians who work in the private sector and public sector in urban and rural areas from throughout the United States. The total burden hours for this data collection are 89 hours.

Respondents | Number of respondents | Number of responses/respondent | Average burden/response (in hours)
Office staff (screening) | 480 | 1 | 5/60
Physicians (interviews) | 100 | 1 | 30/60
Physicians (verification) | 10 | 1 | 5/60

Dated: December 19, 2001.
Nancy E. Cheal,
Acting Associate Director for Policy, Planning and Evaluation, Centers for Disease Control and Prevention.

[FR Doc. 01-32045 Filed 12-28-01; 8:45 am]

BILLING CODE 4163-18-P